DEPARTMENT OF TRANSPORTATION

Federal Aviation Administration

14 CFR Part 39

[Docket No. FAA-2024-2326; Project Identifier MCAI-2023-01048-T]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Notice of proposed rulemaking (NPRM).

SUMMARY: The FAA proposes to supersede Airworthiness Directive (AD) 2022-19-09, which applies to all Airbus Canada Limited Partnership Model BD-500-1A10 and BD-500-1A11 airplanes. AD 2022-19-09 requires repetitive inspections of the left and right main landing gear (MLG) lower spindle pins to detect corrosion, and applicable repair or replacement. Since the FAA issued AD 2022-19-09, the tracking of flight cycles for inspections was changed from the usage of the MLG to the usage of MLG lower spindle assemblies and a replacement was developed, which would terminate the inspections. This proposed AD continues to require certain actions in AD 2022-19-09, would change the tracking of flight cycles for inspections from the usage of the MLG to the usage of MLG lower spindle assemblies, and would require replacement of affected MLG lower spindle assemblies, as specified in a Transport Canada AD, which is proposed for incorporation by reference (IBR). This proposed AD also would remove airplanes from the applicability. This proposed AD would also prohibit the installation of affected parts under certain conditions. The FAA is proposing this AD to address the unsafe condition on these products.

DATES: The FAA must receive comments on this proposed AD by November 18, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2326; or in person at Docket Operations between 9 a.m. and 5 p.m., Monday through Friday, except Federal holidays. The AD docket contains this NPRM, the mandatory continuing airworthiness information (MCAI), any comments received, and other information. The street address for Docket Operations is listed above.

Material Incorporated by Reference:

• For Transport Canada material identified in this proposed AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation. It is also available at regulations.gov under Docket No. FAA-2024-2326.

• You may view this material at the FAA, Airworthiness Products Section, Operational Safety Branch, 2200 South 216th St., Des Moines, WA. For information on the availability of this material at the FAA, call 206-231-3195.

FOR FURTHER INFORMATION CONTACT: Fatin Saumik, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under the ADDRESSES section. Include “Docket No. FAA-2024-2326; Project Identifier MCAI-2023-01048-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Fatin Saumik, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

The FAA issued AD 2022-19-09, Amendment 39-22178 (87 FR 57799, September 22, 2022) (AD 2022-19-09), for all Airbus Canada Limited Partnership Model BD-500-1A10 and BD-500-1A11 airplanes. AD 2022-19-09 was prompted by an MCAI originated by Transport Canada, which is the aviation authority for Canada. Transport Canada issued AD CF-2021-22R1, dated May 13, 2022 (Transport Canada AD CF-2021-22R1), to correct an unsafe condition.

AD 2022-19-09 requires repetitive inspections of the left and right MLG lower spindle pins to detect corrosion, and applicable repair or replacement if necessary. The FAA issued AD 2022-19-09 to address corrosion and subsequent cracking of the MLG lower spindle pin, which could result in failure of the pin, and consequent collapse of the MLG.

Actions Since AD 2022-19-09 Was Issued

The preamble to AD 2022-19-09 explained that the FAA considered the requirements “interim action” and was considering further rulemaking. The FAA has now determined that further rulemaking is indeed necessary, and this proposed AD follows from that determination.

Since the FAA issued AD 2022-19-09, Transport Canada superseded AD CF-2021-22R1 and issued AD CF-2023-66, dated October 3, 2023 (Transport Canada AD CF-2023-66) (also referred to as the MCAI), to correct an unsafe condition for certain Airbus Canada Limited Partnership Model BD-500-1A10 and Model BD-500-1A11 airplanes. The MCAI states that the tracking of usage was changed from the MLG to the MLG lower spindle assembly for inspections. The MCAI also states that the replacement of the MLG lower spindle assembly, P/N 4115A0500-01, 4115A0500-02 or 5965A0500-01, with P/N 4115A0500-03 on Model BD-500-1A10 airplanes, or P/N 5965A0500-02 on Model BD-500-1A11 airplanes constitutes a terminating action to the initial and repetitive inspection requirement. The MCAI also removed airplanes from the applicability because Model BD-500-1A10 airplanes, serial numbers 50068 and subsequent, and Model BD-500-1A11 airplanes, serial numbers 55249 and subsequent, have a newly designed MLG lower spindle assembly installed.

The FAA is proposing this AD to address the unsafe condition on these products. You may examine the MCAI in the AD docket at regulations.gov under Docket No. FAA-2024-2326.

Explanation of Retained Requirements

Although this proposed AD does not explicitly restate the requirements of AD 2022-19-09, this proposed AD would retain certain of the requirements of AD 2022-19-09. Those requirements are referenced in Transport Canada AD CF-2023-66, which, in turn, is referenced in paragraph (g) of this proposed AD.

Material Incorporated by Reference Under 1 CFR Part 51

Transport Canada AD CF-2023-66 specifies procedures for repetitive inspections (including general visual and detailed inspections, and liquid penetrant inspections) of the left and right MLG lower spindle assembly part number (P/N) 4115A0500-01, 4115A0500-02 or 5965A0500-01 for corrosion, and applicable repair or replacement of the MLG lower spindle assembly with the same P/N 4115A0500-01, 4115A0500-02, or 5965A0500-01.

Transport Canada AD CF-2023-66 also specifies procedures to replace MLG lower spindle assemblies, P/N 4115A0500-01, 4115A0500-02, and 5965A0500-01, with P/N 4115A0500-03 (for Model BD-500-1A10 airplanes), or P/N 5965A0500-02 (for Model BD-500-1A11 airplanes), which constitutes a terminating action to the initial and repetitive inspection requirement.

Transport Canada AD CF-2023-66 also prohibits the installation of MLG lower spindle assembly P/N 4115A0500-01, 415A0500-02, or 5965A0500-01 on any airplane once an airplane has installed P/N 4115A0500-03 or P/N 5965A0500-02.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain certain requirements of AD 2022-19-09. This proposed AD would require accomplishing the actions specified in Transport Canada AD CF-2023-66 described previously, except for any differences identified as exceptions in the regulatory text of this proposed AD. This proposed AD would also prohibit the installation of affected parts under certain conditions.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate Transport Canada AD CF-2023-66 by reference in the FAA final rule. This proposed AD would, therefore, require compliance with Transport Canada AD CF-2023-66 in its entirety through that incorporation, except for any differences identified as exceptions in the regulatory text of this proposed AD. Material required by Transport Canada AD CF-2023-66 for compliance will be available at regulations.gov under Docket No. FAA-2024-2326 after the FAA final rule is published.

Costs of Compliance

The FAA estimates that this AD, if adopted as proposed, would affect 98 airplanes of U.S. registry. The FAA estimates the following costs to comply with this proposed AD:

Estimated Costs for Required Actions
Action | Labor cost | Parts cost | Cost per product | Cost on U.S. operators
Retained actions from AD 2022-19-09 | Up to 25 work-hours × $85 per hour = $2,125 | $0 | Up to $2,125 | Up to $208,250 per inspection cycle.
New proposed replacement | Up to 26 work-hours × $85 per hour = $2,210 | Up to $37,077 | Up to $39,287 | Up to $3,850,126.

The FAA estimates the following costs to do any necessary on-condition actions that would be required based on the results of any required actions. The FAA has no way of determining the number of aircraft that might need these on-condition actions:

Estimated Costs of On-Condition Actions
Labor cost | Parts cost | Cost per product
Up to 4 work-hours × $85 per hour = $340 | Up to $37,077 | Up to $37,417.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-19-09, Amendment 39-22178 (87 FR 57799, September 22, 2022); and

b. Adding the following new AD:

Airbus Canada Limited Partnership (Type Certificate Previously Held by C Series Aircraft Limited Partnership (CSALP); Bombardier, Inc.): Docket No. FAA-2024-2326; Project Identifier MCAI-2023-01048-T.

(a) Comments Due Date

The FAA must receive comments on this airworthiness directive (AD) by November 18, 2024.

(b) Affected ADs

This AD replaces AD 2022-19-09, Amendment 39-22178 (87 FR 57799, September 22, 2022) (AD 2022-19-09).

(c) Applicability

This AD applies to Airbus Canada Limited Partnership (type certificate previously held by C Series Aircraft Limited Partnership (CSALP); Bombardier, Inc.) Model BD-500-1A10 and BD-500-1A11 airplanes, certificated in any category, as identified in Transport Canada AD CF-2023-66, dated October 3, 2023 (Transport Canada AD CF-2023-66).

(d) Subject

Air Transport Association (ATA) of America Code 32, Landing Gear.

(e) Unsafe Condition

This AD was prompted by reports of in-service findings of corrosion on the flange of the main landing gear (MLG) lower spindle pin. The FAA is issuing this AD to address corrosion and subsequent cracking of the MLG lower spindle pin. The unsafe condition, if not addressed, could result in failure of the pin, and consequent collapse of the MLG.

(f) Compliance

Comply with this AD within the compliance times specified, unless already done.

(g) Requirements

Except as specified in paragraph (h) of this AD: Comply with all required actions and compliance times specified in, and in accordance with, Transport Canada AD CF-2023-66.

(h) Exceptions to Transport Canada AD CF-2023-66

(1) Where Transport Canada AD CF-2023-66 refers to May 20, 2021, the effective date of Transport Canada AD CF-2021-18, this AD requires using October 27, 2022 (the effective date of AD 2022-19-09).

(2) Transport Canada AD CF-2023-66 refers to its effective date, this AD requires using the effective date of this AD.

(3) Where Part I of Transport Canada AD CF-2023-66 specifies “Initial inspections carried out,” for this AD, replace that text with “Initial inspections and applicable repairs and replacements carried out.”

(4) Where Part II of Transport Canada AD CF-2023-66 specifies “Repetitive inspections carried out,” for this AD, replace that text with “Repetitive inspections and applicable repairs and replacements carried out.”

(5) Where Part III of Transport Canada AD CF-2023-66 specifies a compliance time for the terminating action, for this AD, the compliance time is within the time specified in Part III of Transport Canada AD CF-2023-66, or within 60 days after the effective date of this AD, whichever occurs later.

(i) No Reporting or Return of Parts Requirement

Although the material referenced in Transport Canada AD CF-2023-66 specifies to submit certain information and send removed parts to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k)(1) of this AD. Information may be emailed to: 9-AVS-NYACO-COS@faa.gov.

(i) Before using any approved AMOC, notify your appropriate principal inspector, or lacking a principal inspector, the manager of the responsible Flight Standards Office.

(ii) AMOCs approved previously for AD 2022-19-09 are approved as AMOCs for the corresponding provisions of Transport Canada AD CF-2021-22R1 that are required by paragraph (g) of this AD.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(k) Additional Information

(1) For more information about this AD, contact Fatin Saumik, Aviation Safety Engineer, FAA, 1600 Stewart Avenue, Suite 410, Westbury, NY 11590; telephone 516-228-7300; email 9-avs-nyaco-cos@faa.gov.

(2) For Airbus Canada Limited Partnership material identified in this AD that is not incorporated by reference, contact Airbus Canada Limited Partnership, 13100 Henri-Fabre Boulevard, Mirabel, Québec J7N 3C6, Canada; telephone 450-476-7676; email a220_crc@abc.airbus; internet https://a220world.airbus.com. You may view this service information at the FAA, Airworthiness Products Section, Operational Safety Branch, 2200 South 216th St., Des Moines, WA. For information on the availability of this material at the FAA, call 206-231-3195.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Transport Canada AD CF-2023-66, dated October 3, 2023.

(ii) [Reserved]

(3) For Transport Canada ADs CF-2023-66, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on September 27, 2024.
Peter A. White,
Deputy Director, Integrated Certificate Management Division, Aircraft Certification Service.

[FR Doc. 2024-22662 Filed 10-2-24; 8:45 am]

BILLING CODE 4910-13-P